DEPARTMENT OF THE TREASURY

Submission for OMB Review; Comment Request

February 10, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 27, 2000, to be assured of consideration.

Internal Revenue Service (IRS)

OMB Number: 1545-1503.

Revenue Procedure Number: Revenue Procedure 96-53.

Type of Review: Extension.

Title: Section 482—Allocations Between Related Parties.

Description: The information requested in sections 4.02, 5, 8.02, 9, 11.01, 11.02(1), 11.04, 11.07, and 11.08 is required to enable the Internal Revenue Service to give advice on filing Advance Pricing Agreement applications, to process such applications and negotiate agreements, and to verify compliance with agreements and whether agreements require modification.

Respondents: Business or other for-profit.

Estimated Number of Respondents/Recordkeepers: 160.

Estimated Burden Hours Per Respondent/Recordkeeper: 32 hours, 49 minutes.

Frequency of Response: On occasion.

Estimated Total Reporting/Recordkeeping Burden: 5,250 hours.

Clearance Officer: Garrick Shear, Internal Revenue Service, Room 5244 1111 Constitution Avenue, NW, Washington, DC 20224.

OMB Reviewer: Alexander T. Hunt (202) 395-7860, Office of Management and Budget Room 10202, New Executive Office Building Washington, DC 20503.

Mary A. Able,
Departmental Reports Management Officer.

[FR Doc. 00-7615 Filed 3-27-00; 8:45 am]

BILLING CODE 4830-01-U